DEPARTMENT OF COMMERCE

National Oceanic and Atmospheric Administration

[I.D. 101006B]

New England Fishery Management Council; Public Meeting

AGENCY: National Marine Fisheries Service (NMFS), National Oceanic and Atmospheric Administration (NOAA), Commerce.

ACTION: Notice of a public meeting.

SUMMARY: The New England Fishery Management Council's (Council) Groundfish Committee will meet to consider actions affecting New England fisheries in the exclusive economic zone (EEZ).

DATES: The meeting will be held on Friday, November 3, 2006, at 9 a.m.

ADDRESSES: The meeting will be held at the Holiday Inn, One Newbury Street, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will meet to continue work on the adjustment to the Northeast Multispecies Fishery Management Plan that is planned for implementation on May 1, 2009. This adjustment will adopt management measures necessary to continue the stock rebuilding programs that were adopted in 2004 by Amendment 13. For this action the Council is planning to submit an amendment supported by an Environmental Impact Statement (EIS). A notice of intent will be published announcing plans to prepare an EIS and announcing the scoping period and a series of scoping meetings. In order to facilitate informed comments during the scoping period, the Council plans to prepare a scoping document that will describe the standards and/or requirements that should be considered when submitting comments. At this meeting, the Committee will develop advice for the Council to consider when establishing those standards. This Committee meeting will be held in the form of a workshop. Committee members will be assigned to working groups that will be assisted by the participation of members of the Groundfish Advisory Panel, Recreational Advisory Panel, and Groundfish Plan Development Team. The Committee may also consider other business after the workshop discussions are concluded. Workshop discussions will be reported to the Council on November 14-16, 2006. After the Council reviews and acts on the Committee recommendations, a scoping document will be prepared and published.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: October 11, 2006.
Tracey L. Thompson,
Acting Director, Office of Sustainable Fisheries, National Marine Fisheries Service.

[FR Doc. E6-17073 Filed 10-13-06; 8:45 am]

BILLING CODE 3510-22-S